DEPARTMENT OF COMMERCE

Foreign-Trade Zones Board

[B-44-2020]

Foreign-Trade Zone 208—New London, Connecticut; Application for Reorganization Under Alternative Site Framework

An application has been submitted to the Foreign-Trade Zones (FTZ) Board by the New London Foreign Trade Zone Commission, grantee of FTZ 208, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on July 13, 2020.

FTZ 208 was approved by the FTZ Board on June 26, 1995 (Board Order 746, 60 FR 35893, July 12, 1995).

The current zone includes the following site: Site 1 (133 acres)—New London State Pier, State Pier Road, New London.

The grantee's proposed service area under the ASF would be New London County, Connecticut, as described in the application. If approved, the grantee would be able to serve sites throughout the service area based on companies' needs for FTZ designation. The application indicates that the proposed service area is within and adjacent to the New London Customs and Border Protection port of entry.

The applicant is requesting authority to reorganize its existing zone to include its existing site as a “magnet” site. No subzones/usage-driven sites are being requested at this time. The application would have no impact on FTZ 208's previously authorized subzone.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is September 21, 2020. Rebuttal comments in response to material submitted during the foregoing period may be submitted during the subsequent 15-day period to October 5, 2020.

A copy of the application will be available for public inspection in the “Reading Room” section of the FTZ Board's website, which is accessible via www.trade.gov/ftz.

For further information, contact Elizabeth Whiteman at Elizabeth.Whiteman@trade.gov or (202) 482-0473.

Dated: July 13, 2020.
Andrew McGilvray,
Executive Secretary.

[FR Doc. 2020-15726 Filed 7-20-20; 8:45 am]

BILLING CODE 3510-DS-P